DEPARTMENT OF AGRICULTURE

Food Safety and Inspection Service

[Docket No. FSIS-2012-0006]

Notice of Request for Extension and Revision of a Currently Approved Information Collection (Consumer Complaint Monitoring System and the Food Safety Mobile Questionnaire)

AGENCY: Food Safety and Inspection Service, USDA.

ACTION: Notice and request for comments.

SUMMARY: In accordance with the Paperwork Reduction Act of 1995 and the Office of Management and Budget (OMB) regulations, the Food Safety and Inspection Service (FSIS) is announcing its intention to request an extension and revision of an approved information collection regarding both its Consumer Complaint Monitoring System (CCMS) web portal and its electronic Food Safety Mobile questionnaire. The approval for this information collection is due to expire. FSIS is revising the total annual burden hours from 138 hours to 513 hours due to the increased use of the CCMS web portal. The public may comment on either the entire information collection or on one of its two parts.

DATES: Comments on this notice must be received on or before May 21, 2012.

ADDRESSES: FSIS invites interested persons to submit comments on this notice. Comments may be submitted by either of the following methods:

Federal eRulemaking Portal: Go to http://www.regulations.gov. Follow the online instructions at that site for submitting comments.

Mail, including floppy disks or CD-ROMs, and hand- or courier-delivered items: Send to Docket Clerk, U.S. Department of Agriculture (USDA), FSIS, Docket Clerk, Patriots Plaza 3, 355 E. Street SW., 8-163A, Mailstop 3782, Washington, DC 20250-3700.

All submissions received must include the Agency name and docket number FSIS-2012-0006. Documents referred to in this notice, and all comments submitted in response to this notice will be available for public inspection in the FSIS Docket Room at the address listed above between 8:30 a.m. and 4:30 p.m., Monday through Friday, except Federal holidays. Comments also will be posted on the Agency's Web site at http://www.fsis.usda.gov/regulations_&_policies/Federal_Register_Notices/index.asp.

Individuals who do not wish FSIS to post their personal contact information—mailing address, email address, and telephone number— on the Internet may leave this information off of their comments.

FOR FURTHER INFORMATION CONTACT: John O'Connell, Paperwork Reduction Act Coordinator, Food Safety and Inspection Service, USDA, 1400 Independence Avenue SW., Room 6065 South Building, Washington, DC 20250-3700; (202) 720-0345.

SUPPLEMENTARY INFORMATION:

Title: Consumer Complaint Monitoring System; the Food Safety Mobile Questionnaire.

OMB Control Number: 0583-0133.

Expiration Date: 7/31/2012.

Type of Request: Extension and revision of an approved information collection.

Abstract: FSIS, by delegation (7 CFR 2.18, 2.53), exercises the functions of the Secretary as specified in the Federal Meat Inspection Act (FMIA) (21 U.S.C. 601, et seq.), the Poultry Products Inspection Act (PPIA) (21 U.S.C. 451, et seq.), and the Egg Products Inspection Act (EPIA) (21 U.S.C. 1031, et seq.). These statutes mandate that FSIS protect the public by verifying that meat, poultry, and egg products are safe, wholesome, unadulterated, and properly labeled and packaged.

FSIS tracks consumer complaints about meat, poultry, and egg products. Consumer complaints are usually filed because the food made the consumer sick, caused an allergic reaction, was not properly labeled (misbranded), or contained a foreign object. FSIS has developed a web portal to allow consumers to electronically file a complaint with the Agency about a meat, poultry, or egg product. FSIS uses this information to look for trends that will enhance the Agency's food safety efforts.

FSIS uses a Food Safety Mobile—or Food Safety Discovery Zone Mobile—a vehicle that travels throughout the continental United States, to educate consumers about the risks associated with the mishandling of food and the steps they can take to reduce their risk of foodborne illness. Organizations can request a visit from the FSIS Food Safety Mobile, although its availability is limited. To facilitate the scheduling of the Food Safety Mobile's visits when it is available, the Agency has put an electronic questionnaire on its web site. The questionnaire solicits information about the person or organization requesting the visit, the timing of the visit, and the type of event at which the Food Safety Mobile is to appear.

FSIS is requesting a revision of an approved information collection addressing paperwork and recordkeeping requirements regarding the Agency's CCMS web portal and regarding its electronic Food Safety Mobile questionnaire. FSIS is planning to increase the total annual burden hours from 138 hours to 513 hours because of the increased use of the CCMS web portal.

FSIS has made the following estimates based upon an information collection assessment.

Estimate of Burden: The public reporting burden for this collection of information is estimated to average .446 hours per response.

Respondents: Consumers and organizations.

Estimated Number of Respondents: The CCMS web portal will have approximately 1,000 respondents. The Food Safety Mobile questionnaire will have approximately 150 respondents.

Estimated Number of Responses Per Respondent: 1.

Estimated Total Annual Burden on Respondents: The total annual burden time is estimated to be around 500 hours for respondents using CCMS web portal, and 13 hours for respondents using the Food Safety Mobile questionnaire. Thus, the total annual burden time for these two systems is 513 hours.

Copies of this information collection assessment can be obtained from John O'Connell, Paperwork Reduction Act Coordinator, Food Safety and Inspection Service, USDA, 1400 Independence Avenue SW., Room 6065 South Building, Washington, DC 20250-3700; (202) 720-0345.

Comments are invited on: (a) Whether the proposed collection of information is necessary for the proper performance of FSIS's functions, including whether the information will have practical utility; (b) the accuracy of FSIS's estimate of the burden of the proposed collection of information, including the validity of the methodology and assumptions used; (c) ways to enhance the quality, utility, and clarity of the information to be collected; and (d) ways to minimize the burden of the collection of information on those who are to respond, including through the use of appropriate automated, electronic, mechanical, or other technological collection techniques, or other forms of information technology. Comments may be sent to both FSIS, at the addresses provided above, and the Desk Officer for Agriculture, Office of Information and Regulatory Affairs, Office of Management and Budget, Washington, DC 20253.

All responses to this notice will be summarized and included in the request for OMB approval. All comments will also become a matter of public record.

Additional Public Notification

Public awareness of all segments of rulemaking and policy development is important. Consequently, FSIS will announce this notice on-line through the FSIS Web page located at http://www.fsis.usda.gov/regulations/2012_Notices_Index/. FSIS also will make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals and other individuals who have asked to be included. The Update is available on the FSIS Web page. Through the Listserv and the Web page, FSIS is able to provide information to a much broader and more diverse audience. In addition, FSIS offers an email subscription service which provides automatic and customized access to selected food safety news and information. This service is available at http://www.fsis.usda.gov/news_and_events/email_subscription/. Options range from recalls to export information to regulations, directives and notices. Customers can add or delete subscriptions themselves and have the option to password protect their account.

Done at Washington, DC, on March 19, 2012.
Alfred V. Almanza,
Administrator.

[FR Doc. 2012-6902 Filed 3-21-12; 8:45 am]

BILLING CODE 3410-DM-P